NATIONAL CREDIT UNION ADMINISTRATION

Sunshine Act: Notice of Agency Meeting

TIME AND DATE: 10:00 a.m., Thursday, July 21, 2016.

PLACE: Board Room, 7th Floor, Room 7047, 1775 Duke Street (All visitors must use Diagonal Road Entrance) Alexandria, VA 22314-3428.

STATUS: Open.

MATTERS TO BE CONSIDERED:

1. National Credit Union Share Insurance Fund Quarterly Report.

2. NCUA's 2017-2021 Strategic Plan.

3. Board Briefing, 2016 Mid-Session Budget.

RECESS: 11:00 a.m.

TIME AND DATE: 11:15 a.m., Thursday, July 21, 2016.

PLACE: Board Room, 7th Floor, Room 7047, 1775 Duke Street, Alexandria, VA 22314-3428.

STATUS: Closed.

MATTERS TO BE CONSIDERED:

1. Merger Request Pursuant to part 708b of NCUA's Rules and Regulations. Closed pursuant to Exemption (8).

2. Supervisory Matter. Closed pursuant to Exemptions (8), (9)(i)(B) and (9)(ii).

FOR FURTHER INFORMATION CONTACT: Gerard Poliquin, Secretary of the Board, Telephone: 703-518-6304.

Gerard Poliquin,
Secretary of the Board.

[FR Doc. 2016-17045 Filed 7-14-16; 4:15 pm]

BILLING CODE 7535-01-P